ENVIRONMENTAL PROTECTION AGENCY

[EPA-HQ-OAR-2011-0891; FRL-9930-58-OEI]

Information Collection Request Submitted to OMB for Review and Approval; Comment Request; Recordkeeping and Periodic Reporting of the Production, Import, Recycling, Destruction, Transhipment, and Feedstock Use of Ozone-Depleting Substances (Renewal)

AGENCY: Environmental Protection Agency (EPA).

ACTION: Notice.

SUMMARY: The Environmental Protection Agency has submitted an information collection request (ICR), “Recordkeeping and Periodic Reporting of the Production, Import, Recycling, Destruction, Transhipment, and Feedstock Use of Ozone-Depleting Substances (Renewal)” (EPA ICR No. 1432.31, OMB Control No. 2060-0170) to the Office of Management and Budget (OMB) for review and approval in accordance with the Paperwork Reduction Act (44 U.S.C. 3501 et seq.). Public comments were previously requested via the Federal Register (80 FR 24917) on May 1, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before August 14, 2015.

ADDRESSES: Submit your comments, referencing Docket ID Number EPA-HQ-OAR-2011-0891, to (1) EPA online using www.regulations.gov (our preferred method) or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Robert Burchard, Stratospheric Protection Division, Office of Atmospheric Programs (6205J), Environmental Protection Agency, 1200 Pennsylvania Ave. NW., Washington, DC 20460; telephone number: (202) 343-9126; email address: Burchard.robert@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The Montreal Protocol on Substances that Deplete the Ozone Layer (Protocol) and Title VI of the Clean Air Act Amendments of 1990 (CAA) established limits on total U.S. production, import, and export of Class I and Class II controlled ozone depleting substances (ODSs). Under its Protocol commitments, the United States has been obligated to cease production and import of Class I controlled substances with exemptions for essential uses, critical uses, previously used material, and material that will be transformed, destroyed, or exported to developing countries. The Protocol also establishes limits and reduction schedules leading to the eventual phaseout of Class II controlled substances with similar exemptions beyond the phaseout. Additionally, the CAA has its own limits on production and consumption of controlled substances that EPA must adhere to and enforce.

To ensure the United States' compliance with the limits and restrictions established by the Protocol and the CAA, the ODS phaseout regulations establish control measures for individual companies. EPA monitors compliance with the limits and restrictions for individual United States companies through the recordkeeping and reporting requirements established in the regulations at 40 CFR part 82, subpart A. To submit required information, regulated entities can download reporting forms, complete them, and then send them to EPA via mail, fax, or electronically. Upon receipt of the reports, EPA enters and stores the data in the ODS Tracking System. The Tracking System is a secure database that maintains all of the data that is submitted to EPA and allows the Agency to: (1) Track over total production and consumption of controlled substances to satisfy conditions of the CAA and fulfill the United States obligations under the Protocol; (2) monitor compliance with limits and restrictions on production, imports, exports, and specific exemptions to the phaseout for individual U.S. companies; and (3) enforce against illegal imports and violations related to the control of Class I and Class II substances. Additionally, reporting on the exemptions allows an entity to retain the benefit of being able to produce or import a controlled Class I ODS beyond the date of complete phaseout.

Pursuant to regulations 40 CFR part 2, subpart B, reporting businesses are entitled to assert a business confidentiality claim covering any part of the submitted business information as defined in 40 CFR part 2, subpart B.

Respondents/affected entities: Chemical Producers, Importers, and Exporters (CFCs); Research and Development (Laboratories); and MeBr Producers, Importers, Exporters, Distributors, and Applicators.

Estimated number of respondents: 1845 (total).

Frequency of response: quarterly, annually, occasionally.

Total estimated burden: 2583 hours (per year). Burden is defined at 5 CFR 1320.03(b).

Total estimated cost: $280,055 (per year), includes $5,535 annualized capital or operation & maintenance costs.

Changes in the Estimates: There is no change in the total estimated respondent burden compared with the ICR currently approved by OMB.

Courtney Kerwin,
Acting Director, Collection Strategies Division.

[FR Doc. 2015-17316 Filed 7-14-15; 8:45 am]

BILLING CODE 6560-50-P